DEPARTMENT OF COMMERCE

International Trade Administration

[A-580-876, A-489-822, C-489-823]

Welded Line Pipe From the Republic of Korea and the Republic of Turkey: Continuation of Antidumping and Countervailing Duty Orders

AGENCY: Enforcement and Compliance, International Trade Administration, Department of Commerce.

SUMMARY: As a result of the determinations by the Department of Commerce (Commerce) and the International Trade Commission (ITC) that revocation of the antidumping duty (AD) and countervailing duty (CVD) orders on welded line pipe from the Republic of Korea (Korea) and the Republic of Turkey (Turkey) would likely lead to continuation or recurrence of dumping, net countervailable subsidies, and material injury to an industry in the United States, Commerce is publishing a notice of continuation of these AD and CVD orders.

DATES: Applicable June 30, 2021.

FOR FURTHER INFORMATION CONTACT: Amaris Wade, Office II, AD/CVD Operations, Enforcement and Compliance, International Trade Administration, U.S. Department of Commerce, 1401 Constitution Avenue NW, Washington, DC 20230; telephone: (202) 482-3874.

SUPPLEMENTARY INFORMATION:

Background

On December 1, 2015, Commerce published the AD orders on welded line pipe from Korea and Turkey,¹ and the CVD order on welded line pipe from Turkey.² On November 2, 2020, the ITC instituted,³ and on November 3, 2020, Commerce initiated,⁴ the first five-year (sunset) reviews of the AD Orders and the CVD Order, pursuant to section 751(c) of the Tariff Act of 1930, as amended (the Act). As a result of its reviews, Commerce determined that revocation of the AD Orders would be likely to lead to continuation or recurrence of dumping, and revocation of the CVD Order would be likely to lead to continuation or recurrence of countervailable subsidies. Therefore, Commerce notified the ITC of the magnitude of the margins of dumping and the net subsidy rates likely to prevail should the AD Orders and the CVD Order be revoked.⁵

¹ See Welded Line Pipe From the Republic of Korea and the Republic of Turkey: Antidumping Duty Orders, 80 FR 75056 (December 1, 2015) (AD Orders).

² See Welded Line Pipe From the Republic of Turkey: Countervailing Duty Order, 80 FR 75054 (December 1, 2015) (CVD Order).

³ See Welded Line Pipe From Korea and Turkey; Institution of Five-Year Reviews, 85 FR 69354 (November 2, 2020).

⁴ See Initiation of Five-Year (Sunset) Reviews, 85 FR 69585 (November 3, 2020).

⁵ See Welded Line Pipe From the Republic of Korea and the Republic of Turkey: Final Results of the Expedited First Sunset Reviews of the Antidumping Duty Orders, 86 FR 12172 (March 2, 2021), and accompanying Issues and Decision Memorandum (IDM); see also Welded Line Pipe From the Republic of Turkey: Final Results of the Expedited First Sunset Review of the Countervailing Duty Order, 86 FR 13526 (March 9, 2021), and accompanying IDM.

On June 24, 2021, the ITC published its determinations, pursuant to sections 751(c) and 752(a) of the Act, that revocation of the AD Orders and the CVD Order would likely lead to continuation or recurrence of material injury to an industry in the United States within a reasonably foreseeable time.⁶

⁶ See Certain Welded Line Pipe from Korea and Turkey USITC Inv. Nos. 701-TA-525 and 731-TA-1260-1261 (Review), 86 FR 33356 (June 24, 2021); see also Certain Welded Line Pipe from Korea and Turkey USITC Inv. Nos. 701-TA-525 and 731-TA-1260-1261 (Review), USITC Pub. 5202 (June 2021).

Scope of the Orders

The scope of these orders is circular welded carbon and alloy steel (other than stainless steel) pipe of a kind used for oil or gas pipelines (welded line pipe), not more than 24 inches in nominal outside diameter, regardless of wall thickness, length, surface finish, end finish, or stenciling. Welded line pipe is normally produced to the American Petroleum Institute (API) specification 5L, but can be produced to comparable foreign specifications, to proprietary grades, or can be non-graded material. All pipe meeting the physical description set forth above, including multiple-stenciled pipe with an API or comparable foreign specification line pipe stencil is covered by the scope of these orders.

The welded line pipe that is subject to these orders is currently classifiable in the Harmonized Tariff Schedule of the United States (HTSUS) under subheadings 7305.11.1030, 7305.11.5000, 7305.12.1030, 7305.12.5000, 7305.19.1030, 7305.19.5000, 7306.19.1010, 7306.19.1050, 7306.19.5110, and 7306.19.5150. The subject merchandise may also enter in HTSUS 7305.11.1060 and 7305.12.1060. While the HTSUS subheadings are provided for convenience and customs purposes, the written description of the scope of these orders is dispositive.

Continuation of the Orders

As a result of the determinations by Commerce and the ITC that revocation of the AD Orders and the CVD Order would likely lead to a continuation or a recurrence of dumping, countervailable subsidies, and material injury to an industry in the United States, pursuant to section 751(d)(2) of the Act and 19 CFR 351.218(a), Commerce hereby orders the continuation of the AD Orders and the CVD Order. U.S. Customs and Border Protection will continue to collect AD and CVD cash deposits at the rates in effect at the time of entry for all imports of subject merchandise.

The effective date of the continuation of the AD Orders and the CVD Order will be the date of publication in the Federal Register of this notice of continuation. Pursuant to section 751(c)(2) of the Act and 19 CFR 351.218(c)(2), Commerce intends to initiate the next five-year review of the AD Orders and the CVD Order not later than 30 days prior to the fifth anniversary of the effective date of continuation.

Administrative Protective Order

This notice also serves as the only reminder to parties subject to administrative protective order (APO) of their responsibility concerning the return/destruction or conversion to judicial protective order of proprietary information disclosed under APO in accordance with 19 CFR 351.305(a)(3). Failure to comply is a violation of the APO which may be subject to sanctions.

Notification to Interested Parties

These five-year (sunset) reviews and this notice are in accordance with sections 751(c) and (d)(2) of the Act and published in accordance with section 777(i) of the Act, and 19 CFR 351.218(f)(4).

Dated: June 24, 2021.
Christian Marsh,
Acting Assistant Secretary for Enforcement and Compliance.

[FR Doc. 2021-13978 Filed 6-29-21; 8:45 am]

BILLING CODE 3510-DS-P